POSTAL SERVICE

39 CFR Part 20

Revised Standards for First-Class Mail International™ Service; Correction

AGENCY: Postal Service™.

ACTION: Final rule; correction.

SUMMARY: The Postal Service published in the Federal Register of February 20, 2008, a document reflecting the change to shape-based standards for First-Class Mail International. Inadvertently, a table in the section titled Country Rate Groups and Weight Limits; the two right-most columns had duplicate mail-shape headings. This document amends those headings.

DATES: Effective Date: 12:01 a.m. on May 12, 2008.

FOR FURTHER INFORMATION CONTACT: Christy Bonning, 202-268-2108.

SUPPLEMENTARY INFORMATION: In Federal Register of February 20, 2008, Vol. 73, No. 34, 9191-9197 [E8-2920], make the following correction:

On page 9194, in the table titled Country Rate Groups and Weight Limits, change the second from right column heading to read: FCMI, Lg. Env., (Flats), Max., Wt., lbs. Change the right-most column heading to read: FCMI, Pkgs., (Sm. Packets), Max., Wt., lbs. Revised headings to appear as follows:

Country | ¹ GXG rate group⁵ | ¹ GXG max wt. lbs. | ² PMI rate group⁵ | ² PMI max wt. lbs. | ² PMI flat-rate box max wt. lbs. | ³ EMI rate group⁵ | ³ EMI max wt. lbs. | ⁴ FCMI rate group⁵ | ⁴ FCMI letters max wt. oz. | ⁴ FCMI lg. env. (flats) max wt. lbs. | ⁴ FCMI pkgs. (small packets) max wt. lbs.

Dated: February 22, 2008.
Neva R. Watson,
Attorney, Legislative.

[FR Doc. E8-4454 Filed 3-6-08; 8:45 am]

BILLING CODE 7710-12-P